FEDERAL COMMUNICATIONS COMMISSION

Sunshine Act Meeting; Deletion of Agenda Items and an Additional Item To Be Considered at Open Commission Meeting, Friday, August 5, 2005

August 5, 2005.

The following items have been deleted from the list of Agenda items scheduled for consideration at the August 5, 2005, Open Meeting and previously listed in the Commission's Notice of July 28, 2005.

1 | INTERNATIONAL | Title: Inquiry into the Commission's Process to Avert Harm to U.S. Competition and U.S. Customers Caused by Anticompetitive Conduct.
|  | Summary: The Commission will consider a Notice of Inquiry concerning the effects of anticompetitive conduct and circuit disruption by foreign carriers on U.S.-international routes.
2 | MEDIA | Title: Annual Assessment of the Status of Competition in the Market for the Delivery of Video Programming.
|  | Summary: The Commission will consider a Notice of Inquiry that seeks comments and information for the Twelfth Annual Report on the status of competition in the market for the delivery of video programming.

The Federal Communications Commission will consider one additional item on the subject listed below.

Item no. | Bureau | Subject
2 | WIRELINE COMPETITION | Title: Appropriate Framework for Broadband Access to the Internet over Wireline Facilities; Universal Service Obligations of Broadband Providers (CC Docket No. 02-33); Review of Regulatory Requirements for Incumbent LEC Broadband Telecommunications Services (CC Docket No. 01-337); Computer III Further Remand Proceedings: Bell Operating Company Provision of Enhanced Services; 1998 Biennial Regulatory Review—Review of Computer III and ONA Safeguards and Requirements (CC Docket Nos. 95-20, 98-10); and Conditional Petition of the Verizon Telephone Companies for Forbearance Under 47 U.S.C. 160(c) with Regard to Broadband Services Provided via Fiber to the Premises; Petition of the Verizon Telephone Companies for Declaratory Ruling or, Alternatively, for Interim Waiver with Regard to Broadband Services Provided via Fiber to the Premises (WC Docket No. 04-242).
|  | Summary: The Commission will consider a Report and Order concerning the appropriate framework for Broadband Access to the Internet over Wireline Facilities and a Notice of Proposed Rulemaking concerning Consumer Protection in a Broadband Era.

The prompt and orderly conduct of Commission business permits less than 7-days notice be given for consideration of this item.

Action by the Commission, August 5, 2005. Chairman Martin; Commissioners Abernathy, Copps, and Adelstein voting to consider this item.

Additional information concerning this meeting may be obtained from Audrey Spivack or David Fiske, Office of Media Relations, (202) 418-0500; TTY 1-888-835-5322.

Federal Communications Commission.
William F. Caton,
Deputy Secretary.

[FR Doc. 05-16336 Filed 8-12-05; 2:28 pm]

BILLING CODE 6712-01-P